DEPARTMENT OF COMMERCE

National Oceanic and Atmospheric Administration

DEPARTMENT OF THE INTERIOR

Fish and Wildlife Service

RIN 0648-XI12

Endangered and Threatened Species; Recovery Plans; Recovery Plan for the Northwest Atlantic Population of the Loggerhead Sea Turtle

AGENCIES: National Marine Fisheries Service (NMFS), National Oceanic and Atmospheric Administration (NOAA), Commerce; Fish and Wildlife Service (USFWS), Interior.

ACTION: Notice of availability.

SUMMARY: We, NMFS and USFWS, announce the availability of the revised Recovery Plan for the Northwest Atlantic Population of the Loggerhead Sea Turtle (Caretta caretta). The revised recovery plan includes specific recovery objectives and criteria to be met in order to delist this species under the Endangered Species Act of 1973, as amended (Act).

ADDRESSES: The Recovery Plan for the Northwest Atlantic Population of the Loggerhead Sea Turtle is available on the Internet at http://www.nmfs.noaa.gov/pr/recovery/plans.htm#turtles or http://www.fws.gov/northflorida. Copies also may be obtained by contacting NMFS Office of Protected Resources, 1315 East-West Highway, Room 13657, Silver Spring, MD 20910 (telephone 301-713-1401) or USFWS North Florida Field Office, 7915 Baymeadows Way, Suite 200, Jacksonville, FL 32256 (telephone 904-731-3336).

FOR FURTHER INFORMATION CONTACT: Barbara Schroeder (ph. 301-713-1401, fax 301-713-0376, e-mail barbara.schroeder@noaa.gov) or Sandy MacPherson (ph. 904-731-3328, fax 904-731-3045, e-mail sandy_macpherson@fws.gov).

SUPPLEMENTARY INFORMATION: The Endangered Species Act of 1973 (15 U.S.C. 1531 et seq.) requires that NMFS and USFWS develop and implement recovery plans for the conservation and survival of threatened and endangered species under their jurisdiction, unless it is determined that such plans would not promote the conservation of the species. Section 4(f) of the Act requires us to provide a public notice and an opportunity for public review and comment during recovery plan development. We made the draft revision of the Recovery Plan for the Northwest Atlantic Population of the Loggerhead Sea Turtle available for public comment from May 30, 2008, through July 29, 2008 (73 FR 31066, May 30, 2008). We considered information we received during the public comment period and information from peer reviewers in our preparation of this final revised recovery plan.

The plan discusses the natural history, current status, and the known and potential threats to the loggerhead turtle in the Northwest Atlantic. The plan lays out a recovery strategy to address the potential threats based on the best available science and includes recovery goals and criteria. The plan is not a regulatory action, but presents guidance for use by agencies and interested parties to assist in the recovery of loggerhead turtles. The plan identifies substantive actions needed to achieve recovery by addressing the threats to the species. Recovery of loggerhead turtles in the Northwest Atlantic is a long-term effort and will require cooperation and coordination of Federal, state, and local government agencies, and the community, as well as international cooperation.

Dated: January 9, 2009.
James H. Lecky,
Director, Office of Protected Resources, National Marine Fisheries Service.

Dated: January 6, 2009.
Jeffrey M. Flemming,
Acting Regional Director, Southeast Region, Fish and Wildlife Service.

[FR Doc. E9-982 Filed 1-15-09; 8:45 am]

BILLING CODES 3510-22-S, 4310-55-S